DEPARTMENT OF TRANSPORTATION

National Highway Traffic Safety Administration

49 CFR Part 571

[Docket No. NHTSA-2001-10916; Notice 2]

RIN 2127-AI55

Federal Motor Vehicle Safety Standards; Child Restraint Systems

AGENCY: National Highway Traffic Safety Administration (NHTSA), Department of Transportation.

ACTION: Correction.

SUMMARY: NHTSA has been mandated by Congress to consider whether to prescribe clearer and simpler labels and instructions for child restraints. On November 2, 2001, NHTSA published an NPRM that proposes changes to the labels and written instructions that accompany child restraints (66 FR 55623). Due to an error, that NPRM did not address the issue of when, if adopted, NHTSA would require child restraints to comply with the proposed requirements. This document corrects that error.

DATES: You should submit your comments early enough to ensure that Docket Management receives them not later than January 2, 2002. The reason for this closing date is to make it coincide with the the January 2 comment closing date of the November 6, 2001 NPRM.

ADDRESSES: You should mention the docket number of this document in your comments and submit your comments in writing to: Docket Management, Room PL-401, 400 Seventh Street, SW., Washington, DC 20590.

You may call Docket Management at 202-366-9324. You may visit the Docket from 10 a.m. to 5 p.m., Monday through Friday.

FOR FURTHER INFORMATION CONTACT: For non-legal issues, you may call Mary Versailles of the NHTSA Office of Planning and Consumer Programs, at 202-366-2057.

For legal issues, you may call Deirdre Fujita of the NHTSA Office of Chief Counsel at 202-366-2992.

You may send mail to both of these officials at National Highway Traffic Safety Administration, 400 Seventh St., SW., Washington, DC 20590.

SUPPLEMENTARY INFORMATION: NHTSA has been mandated by Congress to consider whether to prescribe clearer and simpler labels and instructions for child restraints. On November 2, 2001, NHTSA published a Notice of Proposed Rulemaking (NPRM) that proposes changes to the labels and written instructions that accompany child restraints (66 FR 55623). Due to an error, the NPRM did not address the issue of when, if adopted, NHTSA would require child restraints to comply with the proposed requirements. This notice corrects that error.

In trying to decide how much leadtime to allow manufacturers, NHTSA first examined past upgrades of labeling requirements. When NHTSA updated air bag label requirements for vehicles and child restraints in 1996, vehicle manufacturers were required to comply with the new requirements within 90 days. Child restraint manufacturers were required to comply within 180 days. The longer leadtime for child restraints was an acknowledgement that child restraint manufacturers would have to change their manufacturing process to include a means of permanently labeling the padding or cushion, a process that was not then employed. Because the labels affected by that rulemaking were manufactured using processes that are more involved that the typical sticky label on the side of a child restraint, leadtime of 180 days should be feasible for the current proposal.

However, the same need for expedited action does not exist as existed for air bags. Also, this proposal would require a change in most, if not all, labels currently on child restraints. NHTSA also acknowledges that, if it were to require permanent molding or some similar technology, a longer leadtime would be needed for those labels. In addition, NHTSA is proposing changes to the written requirements.

Based upon these considerations, NHTSA is proposing a leadtime of one year for the proposed changes to child restraint labels and written instructions. In addition, to encourage the earliest possible installation of the new enhanced labels, NHTSA is would allow manufacturers to install the new labels and provide the new written instructions before the required date.

This correction does not affect the statements made in the “Rulemaking Analyses and Notices” section of the November 2, 2002 NPRM.

Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date.

How Can I Read the Comments Submitted by Other People?

You may read the comments received by Docket Management at the address given above under ADDRESSES. The hours of the Docket are indicated above in the same location.

You may also see the comments on the Internet. To read the comments on the Internet, take the following steps:

1. Go to the Docket Management System (DMS) Web page of the Department of Transportation (http://dms.dot.gov/).

2. On that page, click on “search.”

3. On the next page type in the four-digit docket number shown at the beginning of this document. Example: If the docket number were “NHTSA-1999-1234,” you would type “1234.” After typing the docket number, click on “search.”

4. On the next page, which contains docket summary information for the docket you selected, click on the desired comments. You may download the comments. However, since the comments are imaged documents, instead of word processing documents, the downloaded comments are not word searchable.

Please note that even after the comment closing date, we will continue to file relevant information in the Docket as it becomes available. Further, some people may submit late comments. Accordingly, we recommend that you periodically check the Docket for new material.

Authority: 49 U.S.C. 322, 30111, 30115, 30117, 30166 and 30177; delegation of authority at 49 CFR 1.50.

Issued on November 26, 2001.
Stephen R. Kratzke,
Associate Administrator for Safety Performance Standards.

[FR Doc. 01-29637 Filed 11-28-01; 8:45 am]

BILLING CODE 4910-59-P